FEDERAL COMMUNICATIONS COMMISSION

47 CFR Part 90

[WT Docket No. 11-110; WT Docket No. 12-64; FCC 12-55]

Channel Spacing and Bandwidth Limitations for Certain Economic Area (EA)-Based 800 MHz Specialized Mobile Radio Licensees

AGENCY: Federal Communications Commission.

ACTION: Final rule; announcement of effective date.

SUMMARY: In this document, the Federal Communications Commission (FCC) announces that the Office of Management and Budget (OMB) has approved, for a period of three years, the information collection associated with the Commission's rules to permit Economic Area (EA)-based 800 MHz Specialized Mobile Radio (SMR) licensees to exceed a legacy channel spacing requirement and bandwidth limitation.

DATES: Section 90.209(b)(7) will become effective July 9, 2012.

FOR FURTHER INFORMATION CONTACT: Brian Regan, Mobility Division, Wireless Telecommunications Bureau, at (202) 418-2849, or email: brian.regan@fcc.gov.

SUPPLEMENTARY INFORMATION: This document announces that on May 16, 2012 OMB approved, for a period of three years, the information collection requirements contained in the Commission's Report and Order, FCC 12-55. The OMB Control Number is 3060-1170. The Commission publishes this notice as an announcement of such approval. Because the information collection was pre-approved prior to the adoption or publication of the final rule, the effective date of this information collection is 30 days after the final rule under FCC 12-55 is published in the Federal Register. If you have any comments on the burden estimates listed below, or how the Commission can improve the collections and reduce any burdens caused thereby, please contact Cathy Williams, Federal Communications Commission, Room 1-C823, 445 12th Street SW., Washington, DC 20554. Please include the OMB Control Number, 3060-1170, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that on May 16, 2012 it received OMB pre-approval for the information collection requirements contained in the modifications to the Commission's rules found in 47 CFR 90.209(b)(7).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1170.

The foregoing notice is required by the Paperwork Reduction Act of 1995, Public Law 104-13, October 1, 1995, and 44 U.S.C. 3507.

The total annual reporting burdens and costs for the respondents are as follows:

OMB Control Number: 3060-1170.

OMB Approval Date: May 16, 2012.

OMB Expiration Date: May 31, 2015.

Title: Section 90.209(b)(7)—Bandwidth limitations.

Form Number: N/A.

Type of Review: New collection.

Respondents: Business or other for-profit entities.

Number of Respondents and Responses: 27 respondents; 25 responses.

Estimated Time per Response: 0.5 up to 8.4 hours.

Frequency of Response: On occasion, third party disclosure requirement.

Obligation to Respond: Required to obtain or retain benefits.

Total Annual Burden: 22 hours.

Total Annual Cost: $52,500.

Privacy Impact Assessment: N/A.

Nature and Extent of Confidentiality: None.

Needs and Uses: This information will be used to help ensure that 800 MHz public safety licensees are not impacted by EA-based 800 MHz SMR licensees exceeding the channel spacing and bandwidth requirement in part 90 of the Commission's rules as modified under FCC 12-55. Pursuant to this notice, 800 MHz public safety licensees within the notice area will be able to monitor their networks for any increase in harmful interference in and around the time that an EA-based 800 MHz SMR licensee begins operations that exceed the existing channel spacing and bandwidth limitation in part 90.

Federal Communications Commission.
Marlene H. Dortch,
Secretary.

[FR Doc. 2012-15627 Filed 6-26-12; 8:45 am]

BILLING CODE 6712-01-P